DEPARTMENT OF ENERGY

Federal Energy Regulatory Commission

Notice Of Filings #1

July 6, 2005.

Take notice that the Commission received the following electric rate filings.

Docket Numbers: ER01-2562-002.

Applicants: Competitive Energy Services, LLC.

Description: Competitive Energy Services, LLC submits its triennial updated market power analysis .

Filed Date: 06/28/2005.

Accession Number: 20050705-0115.

Comment Date: 5 p.m. eastern time on Tuesday, July 19, 2005.

Docket Numbers: ER05-1058-001, ER05-1059-001, ER05-1060-001

Applicants: Bayonne Plant Holding, L.L.C.; Camden Plant Holding, L.L.C.; Newark Bay Cogeneration Partnership, L.P.

Description: Newmarket Power Company, LLC, on behalf of its subsidiaries, Bayonne Plant Holding, L.L.C., Camden Plant Holding, L.L.C. and Newark Bay Cogeneration Partnership, L.P., submit an amendment to their 5/26/05 filing in Docket Nos. ER05-1058-000, ER05-1059-000, ER05-1060-000.

Filed Date: 07/01/2005.

Accession Number: 20050705-0204.

Comment Date: 5 p.m. eastern time on Friday, July 15, 2005.

Docket Numbers: ER05-1161-000.

Applicants: Western Systems Power Pool.

Description: Western Systems Power Pool, Inc. submits Third Revised Sheet 36A, et al to Rate Schedule FERC 6, to be effective 9/1/05.

Filed Date: 06/29/2005.

Accession Number: 20050701-0017.

Comment Date: 5 p.m. eastern time on Wednesday, July 20, 2005.

Docket Numbers: ER05-1162-000.

Applicants: Entergy Services, Inc.

Description: Entergy Services, Inc., on behalf of Entergy Mississippi, Inc., submits a notice of termination of the Interconnection and Operating Agreement and Generator Imbalance Agreement between Entergy Mississippi, Inc. and Central Mississippi Generating Company, LLC.

Filed Date: 06/29/2005.

Accession Number: 20050701-0018.

Comment Date: 5 p.m. eastern time on Wednesday, July 20, 2005.

Docket Numbers: ER05-1163-000.

Applicants: Entergy Mississippi, Inc.

Description: Entergy Mississippi, Inc. submits a proposed Interconnection Agreement with Attala Transmission LLC.

Filed Date: 06/29/2005.

Accession Number: 20050701-0019.

Comment Date: 5 p.m. eastern time on Wednesday, July 20, 2005.

Docket Numbers: ER05-1164-000.

Applicants: TPGC, LP.

Description: TPGC, LP submits a notice of succession to notify FERC that effective 6/1/05 the name of TEPO-PANDA Generating Company, L.P. was changed to TPGC, LP and amendments to the FERC rate schedule reflecting this name change.

Filed Date: 06/29/2005.

Accession Number: 20050701-0020.

Comment Date: 5 p.m. eastern time on Wednesday, July 20, 2005.

Docket Numbers: ER05-1165-000.

Applicants: South Carolina Electric & Gas Company.

Description: South Carolina Electric & Gas Company submits an executed Relay Equipment Agreement and an executed Cross Town Tie Breaker Agreement with the City of Orangeburg, SC, Department of Public Utilities.

Filed Date: 06/29/2005.

Accession Number: 20050701-0021.

Comment Date: 5 p.m. eastern time on Wednesday, July 20, 2005.

Docket Numbers: ER05-1166-000.

Applicants: Southern California Edison Company.

Description: Southern California Edison Co. submits a Letter Agreement with the City of Vernon, CA.

Filed Date: 06/29/2005.

Accession Number: 20050701-0022.

Comment Date: 5 p.m. eastern time on Wednesday, July 20, 2005.

Docket Numbers: ER05-1167-000.

Applicants: ISO New England Inc. and New England Power Company.

Description: ISO New England Inc. and New England Power Company submit an executed service agreement for a large generator interconnection agreement with Fortistar Peabody LLC under Schedule 22 of the ISO's Open Access Transmission Tariff.

Filed Date: 06/29/2005.

Accession Number: 20050701-0104.

Comment Date: 5 p.m. eastern time on Wednesday, July 20, 2005.

Docket Numbers: ER05-1168-000.

Applicants: Attala Transmission LLC.

Description: Attala Transmission LLC submits an executed Interconnection and Service Charge Agreement dated 6/28/05 with Entergy Mississippi, Inc.

Filed Date: 06/29/2005.

Accession Number: 20050701-0105.

Comment Date: 5 p.m. eastern time on Wednesday, July 20, 2005.

Docket Numbers: ER98-4400-009.

Applicants: Pittsfield Generating Company, L.P.

Description: Pittsfield Generating Company, L.P., pursuant to the Commission's order issued 4/14/05 (111 FERC ¶ 61,033 (2005)), submits an amendment to its market-based rate tariff to include the change in status reporting requirement adopted in Order 652.

Filed Date: 06/29/2005.

Accession Number: 20050701-0012.

Comment Date: 5 p.m. eastern time on Wednesday, July 20, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Linda Mitry,
Deputy Secretary.

[FR Doc. E5-3757 Filed 7-14-05; 8:45 am]

BILLING CODE 6717-01-P